DEPARTMENT OF VETERANS AFFAIRS

Tribal Consultations

AGENCY: Department of Veterans Affairs.

ACTION: Notice of Tribal Consultation.

SUMMARY: The Department of Veterans Affairs (VA) Office of Tribal Government Relations (OTGR) will host a Tribal Consultation on the following VA programs: Native American Direct Loan Program, Tribal Cemetery Grants, and local implementation of the 2010 VA/Indian Health Service (IHS) Memorandum of Understanding (MOU).

DATES: Comments must be submitted to VA no later than Friday, March 30, 2012. The Consultation Session will be held on April 5, 2012.

ADDRESSES: The Consultation Session will be held at L'Enfant Plaza Hotel, 480 L'Enfant Plaza, SW., Washington, DC 20024, at 9 a.m., Eastern Standard Time.

FOR FURTHER INFORMATION CONTACT: Erika Moott, Executive Officer, VA Office of Tribal Government Relations at (202) 461-7400, by email at Tribalgovernmentconsultation@va.gov, or by mail at Suite 915L, 810 Vermont Avenue NW., Washington, DC 20420.

SUPPLEMENTARY INFORMATION: On November 6, 2000, President Clinton signed Executive Order 13175 entitled “Consultation and Coordination With Indian Tribal Governments,” in order to “establish regular and meaningful consultation and collaboration with [T]ribal officials in the development of Federal policies that have Tribal implications, to strengthen the United States government-to-government relationships with Indian Tribes, and to reduce the imposition of unfunded mandates upon Indian Tribes * * *”

On November 5, 2009, President Obama signed the Memorandum on Tribal Consultation, pronouncing Tribal consultations a critical ingredient of a sound and productive Federal-Tribal relationship. The Presidential Memorandum directs all Federal agencies to develop a detailed plan of action to implement Executive Order 13175 and to engage in regular and meaningful consultation and collaboration with Tribal officials in the development of Federal policies that have Tribal implications. The President stated that his Administration is committed to complete and consistent implementation of Executive Order 13175.

As provided in President Obama's Memorandum on Tribal Consultation, “[t]he United States has a unique legal and political relationship with [American Indian/Alaska Native Tribal governments], established through and confirmed by the Constitution of the United States, treaties, statutes, executive orders, and judicial decisions. In recognition of that special relationship, pursuant to Executive Order 13175 of November 6, 2000, executive departments and agencies * * * are charged with engaging in regular and meaningful consultation and collaboration with [T]ribal officials in the development of Federal policies that have [T]ribal implications, and are responsible for strengthening the government-to-government relationship between the United States and [American Indian/Alaska Native Tribes].”

The following topics will be discussed during consultation:

National Cemetery Administration: In January 2012, VA issued a final rule, 77 FR 4471, amending VA's regulations governing Federal grants for the establishment, expansion, and improvement of veterans cemeteries. This final rule implemented through regulation section 403 of the “Veterans Benefits, Health Care, and Information Technology Act of 2006,” which establishes eligibility for Tribal Organizations to apply for grants for Veterans cemeteries on Trust Lands. Public Law 109-461, 120 Stat. 3403 (Dec. 22, 2006); see also 38 U.S.C. 2408(f). This authority allows VA to award grants under the Veterans Cemetery Grant Program to Tribal Organizations in the same manner, and under the same conditions, as grants to States. VA will consult with Tribes on recommendations for increasing outreach and awareness of the funding opportunity in addition to seeking input on challenges Tribes experience in applying for these grants.

Veterans Health Administration: The VA-IHS MOU was signed by Dr. Petzel and Dr. Roubideaux on October 1, 2010. The purpose of the MOU is to enhance the health care status of American Indian and Alaska Native (AI/AN) Veterans through the delivery of accessible and quality health care services. This will be accomplished by establishing greater collaboration and resource-sharing between both agencies. VA will consult with Tribes on recommendations for increasing Tribal Government involvement in MOU workgroups and workgroup activities at the national and local levels.

Veterans Benefits Administration: The Native American Veteran Direct Loan Program (NADL), created by Congress in 1992, enables eligible veterans the opportunity to obtain VA direct loan benefits on Federal trust land. Until the creation of this program, the only way a Native American Veteran could use a VA-housing benefit was to try to find a mortgage lender willing to make a VA-guaranteed loan on Federal trust land. Lenders have been historically reluctant to lend money to finance the purchase of homes on land held in trust by the Federal Government. VA will consult with Tribes on recommendations for increasing awareness and utilization of the Native American Direct Loan.

Comments must be submitted to VA no later than Friday, March 30, 2012, to: Erika Moott, Executive Officer, VA Office of Tribal Government Relations at (202) 461-7400, by email at Tribalgovernmentconsultation@va.gov, or by mail at Suite 915L, 810 Vermont Avenue NW., Washington, DC 20420. However, this deadline does not preclude anyone from providing testimony at the session and we will, to the extent that time allows, hear your testimony. If you plan on attending to present your testimony, please provide the name, title, and Tribe of the individual who will be presenting to Erika Moott. In order to facilitate the discussion, we ask that presenters provide a brief overview of the testimony and include the specific issues to be addressed at the session. For any Tribe unable to attend to present testimony, please be aware that OTGR will keep the testimony record open for 30 days after the date of the consultation. After 30 days, OTGR will provide written responses to all comments received, including those that were presented in person.

To register for the consultation, please submit your name, Tribe or organization, phone, and email address to Tribalgovernmentconsultation@va.gov.

Approved: March 12, 2012.
John R. Gingrich,
Chief of Staff, Department of Veterans Affairs.

[FR Doc. 2012-6590 Filed 3-16-12; 8:45 am]

BILLING CODE 8320-01-P